DEPARTMENT OF LABOR

Employment and Training Administration

Notice of Funding Opportunity and Solicitation for Grant Applications (SGA) for Civic Justice Corps Grants Serving Juvenile Offenders

AGENCY: Employment and Training Administration, Labor.

ACTION: Notice of Solicitation for Grant Applications (SGA).

Funding Opportunity Number: SGA/DFA PY 10-04.

SUMMARY: Through this notice, the Department of Labor's Employment and Training Administration (ETA) announces the availability of approximately $20 million in grant funds authorized by the Workforce Investment Act for Civic Justice Corps Grants to serve juvenile offenders ages 18 to 24 who have been involved with the juvenile justice system within 12 months before entry into the program. Civic Justice Corps projects funded through this grant announcement will provide young offenders the opportunity to give something back to their communities through community service to make up for past transgressions. Such projects hold promise for reducing the recidivism rate of juvenile offenders by improving their vocational and educational skills and long-term prospects in the labor market and by increasing their attachment to their community and their sense of community responsibility. These grants will be awarded through a competitive process. ETA intends to fund a minimum of 13 grants at various amounts. Applicants may submit only one proposal of up to $1.5 million to cover a 30-month period of performance that includes up to four months of planning and a minimum of 26 months of operation.

The complete SGA and any subsequent SGA amendments, in connection with this solicitation is described in further detail on ETA's Web site at http://www.doleta.gov/grants/find_grants.cfm or on http://www.grants.gov. The Web sites provide application information, eligibility requirements, review and selection procedures and other program requirements governing this solicitation.

DATES: The closing date for receipt of applications is March 15, 2011.

FOR FURTHER INFORMATION CONTACT: Denise Roach, 200 Constitution Avenue, NW., Room N4716, Washington, DC 20210; telephone: 202-693-3820.

Signed in Washington, DC, this 1st day of February, 2011.
Eric Luetkenhaus,
Grant Officer, Employment and Training Administration.

[FR Doc. 2011-2572 Filed 2-4-11; 8:45 am]

BILLING CODE 4510-FT-P